DEPARTMENT OF DEFENSE

Office of the Secretary

[Docket ID: DOD-2012-OS-0008]

Privacy Act of 1974; System of Records

AGENCY: Defense Logistics Agency, DoD.

ACTION: Notice To Amend a System of Records.

SUMMARY: The Defense Logistics Agency is proposing to amend a system of records in its inventory of record systems subject to the Privacy Act of 1974 (5 U.S.C. 552a), as amended.

DATES: The proposed action will be effective on February 22, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency's system of record subject to the Privacy Act of 1974 (5 U.S.C. 552a), as amended, have been published in the Federal Register and are available from the address in FOR FURTHER INFORMATION CONTACT. The proposed changes to the record system being amended are set forth below followed by the notice, as amended, published in its entirety. The proposed amendment is not within the purview of subsection (r) of the Privacy Act of 1974 (5 U.S.C. 552a), as amended, which requires the submission of new or altered systems reports.

Dated: January 18, 2012.
Aaron Siegel,
Alternate OSD Federal Register Liaison Officer, Department of Defense.

S170.05

System name:

Claims and Litigation Files (October 23, 2008, 73 FR 63139).

Changes:

* * * * *

System location:

Delete entry and replace with “Office of the General Counsel, Headquarters, Defense Logistics Agency, 8725 John J. Kingman Road, Suite 1644, Fort Belvoir, VA 22060-6221, and the General Counsel Offices at the Defense Logistics Agency Primary Level Field Activities. Addresses may be obtained from the System manager below.”

* * * * *

Safeguards:

Add sentence to end of paragraph “All users of the records must complete Information Assurance Awareness and DoD PII Training annually.”

* * * * *

System manager(s) and address:

Delete entry and replace with “General Counsel, Headquarters, Defense Logistics Agency, 8725 John J. Kingman Road, Suite 1644, Fort Belvoir, VA 22060-6221 and the General Counsel at the Defense Logistics Agency Primary Level Field Activity.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should include name of claimant/litigant, year of incident, and should contain court case number in order to ensure proper retrieval in those situations where a single litigant has more than one case with the Agency.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Inquiry should include name of claimant/litigant, year of incident, and should contain court case number in order to ensure proper retrieval in those situations where a single litigant has more than one case with the Agency.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S170.05

System name:

Claims and Litigation Files.

System location:

Office of the General Counsel, Headquarters, Defense Logistics Agency, 8725 John J. Kingman Road, Suite 1644, Fort Belvoir, VA 22060-6221, and the General Counsel Offices at the Defense Logistics Agency Primary Level Field Activities. Addresses may be obtained from the System manager below.

Categories of individuals covered by the system:

Individuals or entities who have filed claims or litigation against the Defense Logistics Agency (DLA) or against whom DLA has initiated such actions. The system may also include claims and litigation filed against or on behalf of other federal agencies that are serviced by or receive legal support from DLA.

Categories of records in the system:

Records collected and maintained include record subject's name, home or business address, telephone numbers, details of the claim or litigation, and settlement, resolution, or disposition documents.

Authority for maintenance of the system:

5 U.S.C. 301, Departmental Regulations; 10 U.S.C. 133, Under Secretary of Defense for Acquisition, Technology, and Logistics; 10 U.S.C. 2386, Copyrights, patents, designs, etc.; acquisition; 28 U.S.C. 514, Legal services on pending claims in departments and agencies; 28 U.S.C. 1498, Patents and copyright Cases; 31 U.S.C. chapter 37, Claims; and 35 U.S.C. chapter 28, Infringement of patent.

Purpose(s):

Records are used to represent DLA in claims and litigation.

Routine uses of records maintained in the system, including categories of users and the purposes of such uses:

In addition to those disclosures generally permitted under 5 U.S.C. 552a(b) of the Privacy Act of 1974, these records contained therein may specifically be disclosed outside the DOD as a routine use pursuant to 5 U.S.C. 552a(b)(3) as follows:

To Federal, state, and local agencies authorized to investigate, audit, act on, negotiate, adjudicate, represent, or settle claims or issues arising from litigation.

To agencies, entities, or individuals who have or are expected to have information concerning the claims or litigation at issue.

To the Internal Revenue Service for address verification or for matters under their jurisdiction.

To Federal, state, and local government agencies or other parties involved in approving, licensing, auditing, or otherwise having an identified interest in intellectual property issues.

To defense contractors who have an identified interest in intellectual property at issue.

The DoD “Blanket Routine Uses” apply to this system of records.

Policies and practices for storing, retrieving, accessing, retaining, and disposing of records in the system:

Storage:

Records may be stored on paper and on electronic storage media.

Retrievability:

Records are retrieved by record subject's name.

Safeguards:

Records are maintained in areas accessible only to DLA personnel who must use the records to perform their duties. The computer files are password protected with access restricted to authorized users. Records are secured in locked or guarded buildings, locked offices, or locked cabinets during non-duty hours. All users of the records must complete Information Assurance Awareness and DoD PII Training annually.

Retention and disposal:

Claim records are destroyed 6 years and 3 months after final settlement. Litigation files are destroyed 6 years after case closing except that patent infringement litigation files are destroyed after 26 years and copyright infringement files are destroyed after 56 years.

System manager(s) and address:

General Counsel, Headquarters, Defense Logistics Agency, 8725 John J. Kingman Road, Suite 1644, Fort Belvoir, VA 22060-6221 and the General Counsel at the Defense Logistics Agency Primary Level Field Activity.

Notification procedure:

Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should include name of claimant/litigant, year of incident, and should contain court case number in order to ensure proper retrieval in those situations where a single litigant has more than one case with the Agency.

Record access procedures:

Individuals seeking access to information about themselves contained in this system should address written inquiries to the DLA FOIA/Privacy Act Office, Headquarters, Defense Logistics Agency, ATTN: DGA, 8725 John J. Kingman Road, Suite 1644, Fort Belvoir, VA 22060-6221.

Inquiry should include name of claimant/litigant, year of incident, and should contain court case number in order to ensure proper retrieval in those situations where a single litigant has more than one case with the Agency.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record Source Categories:

Claimants, litigants, investigators, and through legal discovery under the Federal Rules of Civil Procedures.

Exemptions claimed for the system:

None.

[FR Doc. 2012-1239 Filed 1-20-12; 8:45 am]

BILLING CODE 5001-06-P